DEPARTMENT OF COMMERCE

Office of the Secretary

U.S.-EU Trade and Technology Council (TTC) Talent for Growth Task Force Solicitation of Nominations for Membership

AGENCY: Office of the Secretary, U.S. Department of Commerce.

ACTION: Solicitation of nominations.

SUMMARY: The Department of Commerce seeks nominations for immediate consideration for the TTC Talent for Growth Task Force (Task Force). The Task Force was established on December 5, 2022 in the U.S.-EU Joint Statement of the TTC following its 3rd TTC Ministerial meeting and announced by U.S.-EU TTC Co-Chairs U.S. Secretary of Commerce Gina Raimondo and European Commission (EC) Executive Vice-President Margrethe Vestager. The Task Force will help position the United States and EU to achieve the well-trained workforce critical to maintaining leadership in emerging and existing technologies. The Commerce Department is seeking nominations for the U.S. members of the Task Force.

DATES: Nominations for immediate consideration for appointment must be received on or before 5:00 p.m. EST on February 27, 2023.

ADDRESSES: Jana Juginovic, Senior Policy Advisor, Office of the Secretary, Room 5039, U.S. Department of Commerce, 1401 Constitution Avenue NW, Washington, DC 20230; email: jjuginovic@doc.gov.

FOR FURTHER INFORMATION CONTACT: Jana Juginovic, Senior Policy Advisor, Office of the Secretary, Room 5039, U.S. Department of Commerce, 1401 Constitution Avenue NW, Washington, DC 20230; email: jjuginovic@doc.gov; telephone: 202.288.5238. For additional information about the Task Force, please visit the Talent for Growth Task Force Press Release and Fact Sheet at: https://www.commerce.gov/news/press-releases/2022/12/us-secretary-commerce-gina-raimondo-and-european-commission-executive and https://www.commerce.gov/news/fact-sheets/2022/12/fact-sheet-us-eu-trade-and-technology-council-ttc-talent-growth-task-force. The U.S.-EU Joint Statement of the TTC can be found at https://www.whitehouse.gov/briefing-room/statements-releases/2022/12/05/u-s-eu-joint-statement-of-the-trade-and-technology-council/.

SUPPLEMENTARY INFORMATION: The Task Force has a maximum of 14 members: 6 private sector Members from the U.S.; 6 private sector Members from the EU; 1 U.S. government Chair; and 1 EU government Chair. The Department of Commerce is seeking nominations for immediate consideration to fill the 6 private sector U.S. positions on the Task Force for a one-year term. These 6 private sector Members will be selected based on the following criteria:

(1) Two Members representing the business sector. Candidates must be a CEO or in an executive leadership position of a U.S. company headquartered in the United States. For purposes of Task Force eligibility, a U.S. company is at least 51 percent owned by U.S. persons.

(2) Two Members representing organizations that support training (i.e., foundation, community college, university, not-for-profit). Candidates must be the President or equivalent of a U.S. organization that is headquartered in the United States. For purposes of Task Force eligibility, a U.S. organization is majority controlled by U.S. persons as determined by its board of directors (or comparable governing body), membership, and funding sources, as applicable.

(3) Two Members representing Labor Unions. Candidates must be the President or in an executive leadership position of a U.S. Labor Union organization that is headquartered in the United States. For purposes of Task Force eligibility, a U.S. Labor Union organization is majority controlled by U.S. persons as determined by its board of directors (or comparable governing body), membership, and funding sources, as applicable.

Members will work closely with the U.S. and EU Executive Directors, who are responsible for the day-to-day management of the Task Force. The Executive Directors are government officials and report to their respective government Chairs.

Members will be selected based upon their knowledge and experience with training for jobs in or impacted by technology. Members may also be selected for their knowledge and experience that will help the Task Force share best practices, showcase training opportunities, and communicate the benefits of participating in careers in the technology sector.

The Task Force will provide recommendations collectively to the U.S. and EU TTC Co-Chairs and undertake actions to showcase training opportunities and increase public understanding of the promise of these careers. Drawing on best practices, the Task Force will serve as a catalyst for innovative skills approaches.

After a review of the applicants, the Secretary will appoint the U.S. members to the Task Force. All members shall serve in a representative capacity, expressing the views and interests of a U.S. company or U.S. organization, as well as its particular sector. Members serving in such a representative capacity are not Special Government Employees.

Each U.S. member of the Task Force must be a U.S. citizen or lawful permanent resident of the United States and not registered as a foreign agent under the Foreign Agents Registration Act. All appointments are made without regard to political affiliation. Self-nominations will be accepted.

Members of the Task Force will not be compensated for their services or reimbursed for their travel expenses. The Task Force shall meet approximately quarterly, or as determined by the Chairs of the Task Force, either in person in the United States or the EU or using a virtual or hybrid format.

U.S. members shall serve at the pleasure of the Secretary.

All nominations for membership on the Task Force should provide the following information:

(1) Name, title, and relevant contact information (including phone, fax, and email address) of the individual requesting consideration;

(2) An affirmative statement that the applicant is not required to register as a foreign agent under the Foreign Agents Registration Act of 1938;

(3) Short biography of nominee including credentials; and

(4) An affirmative statement that the applicant meets all Task Force eligibility requirements for representative members, including that the applicant represents a U.S. company or U.S. organization.

Please do not send company or organization brochures.

Nominations may be emailed to jjuginovic@doc.gov, or mailed to Jana Juginovic, Senior Policy Advisor, Office of the Secretary, Room 5039, U.S. Department of Commerce, 1401 Constitution Avenue NW, Washington, DC 20230; and must be received on or before 5:00 p.m. EST on February 27, 2023.

Nominees selected for appointment to the Task Force will be notified.

Privacy Act Statement

The collection, maintenance, and disclosure of this information is governed by the Privacy Act of 1974 (5 U.S.C. 552a). The Department of Commerce is authorized to collect this information pursuant to authorities that include but are not limited to: 15 U.S.C. 1512. The principal purposes for which the Department will use the information is to assist in selecting the six U.S. private sector members of the Task Force. Information received will be maintained in COMMERCE/DEPT-11, Candidates for Membership, Members, and Former Members of Department of Commerce Advisory Committees. A complete set of routine disclosures is included in the system of records notice, published both in the Federal Register and on the Department's website at: https://osec.doc.gov/opog/PrivacyAct/PrivacyAct_SORNs.html. Disclosing this information to the Department of Commerce is voluntary. However, if you do not provide this information, or only provide part of the information requested, you may not be considered for membership on the Talent for Growth Task Force.

Authority: 15 U.S.C. 1512.

Dated: February 14, 2023.
David Langdon,
Deputy Director, Office of Policy and Strategic Planning, Department of Commerce.

[FR Doc. 2023-03390 Filed 2-15-23; 8:45 am]

BILLING CODE 3510-20-P